DEPARTMENT OF THE TREASURY

Internal Revenue Service

26 CFR Part 1

[TD 9866]

RIN 1545-BO54; 1545-BO62

Guidance Related to Section 951A (Global Intangible Low-Taxed Income) and Certain Guidance Related to Foreign Tax Credits

Correction

In rule document 2019-12437, appearing on pages 29288 through 29370, in the issue of Friday, June 21, 2019 make the following corrections:

1. On page 29337, Table 1 to paragraph (b)(2)(iv)(B) should appear as follows:

Table 1 to Paragraph (b)(2)(iv)(B)
M's subpart F income for Year 1 | $100x
Less: Reduction under section 951(a)(2)(A) for period (1-1 through 5-26) during which M is not a controlled foreign corporation ($100x × 146/365) | 40x
Subpart F income for Year 1 as limited by section 951(a)(2)(A) | 60x
A's pro rata share of subpart F income as determined under section 951(a)(2)(A) (0.6 × $60x) | 36x
Less: Reduction under section 951(a)(2)(B) for dividends received by B during Year 1 with respect to the stock of M acquired by A:
(i) Dividend received by B ($15x), multiplied by a fraction ($100x/$100x), the numerator of which is the subpart F income of such corporation for the taxable year ($100x) and the denominator of which is the sum of the subpart F income and the tested income of such corporation for the taxable year ($100x) ($15x × ($100x/$100x)) | 15x
(ii) B's pro rata share (60%) of the amount which bears the same ratio to the subpart F income of such corporation for the taxable year ($100x) as the part of such year during which A did not own (within the meaning of section 958(a)) such stock bears to the entire taxable year (146/365) (0.6 × $100x × (146/365)) | 24x
(iii) Amount of reduction under section 951(a)(2)(B) (lesser of (i) or (ii)) |  | 15x
A's pro rata share of subpart F income as determined under section 951(a)(2) | 21x

2. On page 29338, Table 1 to paragraph (b)(2)(vi)(B)(1) should appear as follows:

Table 1 to paragraph (b)(2)(vi)(B)(1)
R's subpart F income for Year 1 | $100x
Less: Reduction under section 951(a)(2)(A) for period (1-1 through 3-14) during which R is not a controlled foreign corporation ($100x × 73/365) | 20x
Subpart F income for Year 1 as limited by section 951(a)(2)(A) | 80x
A's pro rata share of subpart F income as determined under section 951(a)(2)(A) (0.6 × $80x) | 48x
Less: Reduction under section 951(a)(2)(B) for dividends received by B during Year 1 with respect to the stock of R indirectly acquired by A:
(i) Dividend received by B ($100x) multiplied by a fraction ($100x/$400x), the numerator of which is the subpart F income of such corporation for the taxable year ($100x) and the denominator of which is the sum of the subpart F income and the tested income of such corporation for the taxable year ($400x) ($100x × ($100x/$400x)) | 25x
(ii) B's pro rata share (60%) of the amount which bears the same ratio to the subpart F income of such corporation for the taxable year ($100x) as the part of such year during which A did not own (within the meaning of section 958(a)) such stock bears to the entire taxable year (73/365) (0.6 × $100x × (73/365)) | 12x
(iii) Amount of reduction under section 951(a)(2)(B) (lesser of (i) or (ii)) |  | 12x
A's pro rata share of subpart F income as determined under section 951(a)(2) | 36x

3. On the same page, Table 1 to paragraph (b)(2)(vi)(B)(2) should appear as follows:

Table 1 to paragraph (b)(2)(vi)(B)(2)
R's tested income for Year 1 | $300x
Less: Reduction under section 951(a)(2)(A) for period (1-1 through 3-14) during which R is not a controlled foreign corporation ($300x × 73/365) | 60x
Tested income for Year 1 as limited by under section 951(a)(2)(A) | 240x
A's pro rata share of tested income as determined under § 1.951A-1(d)(2) (0.6 × $240x) | 144x
Less: Reduction under section 951(a)(2)(B for dividends received by B during Year 1 with respect to the stock of R indirectly acquired by A:
(i) Dividend received by B ($100x) multiplied by a fraction ($300x/$400x), the numerator of which is the tested income of such corporation for the taxable year ($300x) and the denominator of which is the sum of the subpart F income and the tested income of such corporation for the taxable year ($400x) ($100x × ($300x/$400x)) | 75x
(ii) B's pro rata share (60%) of the amount which bears the same ratio to the tested income of such corporation for the taxable year ($300x) as the part of such year during which A did not own (within the meaning of section 958(a)) such stock bears to the entire taxable year (73/365) (0.6 × $300x × (73/365)) | 36x
(iii) Amount of reduction under section 951(a)(2)(B) (lesser of (i) or (ii)) |  | 36x
A's pro rata share of tested income under section 951A(e)(1) | 108x

[FR Doc. C1-2019-12437 Filed 8-22-19; 8:45 am]

BILLING CODE 1300-01-D